DEPARTMENT OF THE INTERIOR

National Park Service

[NPS-WASO-NRNHL-20326; PPWOCRADI0, PCU00RP14.R50000]

National Register of Historic Places; Notification of Pending Nominations and Related Actions

AGENCY: National Park Service, Interior.

ACTION: Notice.

SUMMARY: The National Park Service is soliciting comments on the significance of properties nominated before February 6, 2016, for listing or related actions in the National Register of Historic Places.

DATES: Comments should be submitted by March 30, 2016.

ADDRESSES: Comments may be sent via U.S. Postal Service to the National Register of Historic Places, National Park Service, 1849 C St. NW., MS 2280, Washington, DC 20240; by all other carriers, National Register of Historic Places, National Park Service, 1201 Eye St. NW., 8th floor, Washington, DC 20005; or by fax, 202-371-6447.

SUPPLEMENTARY INFORMATION: The properties listed in this notice are being considered for listing or related actions in the National Register of Historic Places. Nominations for their consideration were received by the National Park Service before February 6, 2016. Pursuant to section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

CALIFORNIA

Riverside County

Alexander, Dr. Franz, House, 1011 W. Cielo Dr., Palm Springs, 16000093

Sacramento County

American Cash Apartments—American Cash Store, 1117-1123 8th St., Sacramento, 16000094

San Luis Obispo County

Paso Robles Almond Growers Association Warehouse, 525 Riverside Ave., Paso Robles, 16000095

San Mateo County

Whifler, William A., House, 1544 Drake Ave., Burlingame, 16000096

Santa Barbara County

Santa Barbara Veterans Memorial Building, 112 W. Cabrillo St., Santa Barbara, 16000097

COLORADO

Montezuma County

Cortez High School, 121 E. First St., Cortez, 16000098

MASSACHUSETTS

Norfolk County

Eustis Estate Historic District, Address Restricted, Milton, 16000099

MISSOURI

Cole County

St. Francis Xavier Catholic Church and Rectory, (Rural Church Architecture of Missouri, c. 1819 to c. 1945 MPS) 7319 Cty. Rd. M, Taos, 16000100

St. Louis Independent City

Alexander, M.W., House, 3965 Westminster Pl., St. Louis (Independent City), 16000101

Holly Hills Historic District, Bounded by Holly Hills Blvd., MPRR, alley N. of Dover Pl., Leona St. & Ray Ave., St. Louis (Independent City), 16000102

Welfare Finance Company Building, 1027-29 N. Grand Blvd., St. Louis (Independent City), 16000103

NEBRASKA

Adams County

Foote Clinic, 422 N. Hastings Ave., Hastings, 16000104

Cass County

Ruffner, Peter E., House, 501 N. 8th St., Plattsmouth, 16000105

Otoe County

Memorial Building, 810 1st Corso, Nebraska City, 16000106

NEW YORK

Columbia County

Persons of Color Cemetery at Kinderhook, E. of Rothermel Ave., Kinderhook, 16000107

Erie County

Elmwood Historic District East, Portions of Auburn, Bird, Cleveland, Delaware, Elmwood, Forest & Hodge Aves., Anderson, Atlantic & Berkley Pls., Buffalo, 16000108

Essex County

Uplands, The, 35 Thorne Way, Keene Valley, 16000109

Jefferson County

Public Square Historic District (Boundary Increase), J.B. Wise & Park Pls., Arcade & Stone Sts., Watertown, 16000110

Kings County

Crown Heights North Historic District (Boundary Increase), Albany, Brooklyn & St. Mark's Aves., Dean & Pacific Sts., Hampton, Lincoln, Park, Prospect, Revere & St. John's Pls., New York, 16000111

Richmond County

Richmond Terrace Cemeteries, 1562 Richmond Terr. & 25 Van St., Staten Island, 16000112

Suffolk County

Long Island National Cemetery, (Inter-World War National Cemeteries, 1934-1939 MPS) 2040 Wellwood Ave., Farmingdale, 16000113

OHIO

Trumbull County

Swift—Kinsman House, 8426 State Rd., Kinsman Township, 16000114

TENNESSEE

Bradley County

Cleveland Commercial Historic District, Roughly bounded by 50-100 blk. of Central Ave., 10-100 blk. of Church & 100 blk. of Inman Sts., 100 blk. of 2nd St., SE., Cleveland, 16000115

Davidson County

Bluefields Historic District, 2600-2733 Bluefield Ave., 201-279 Cumberland & 2700-2724 Overhill Cirs., 104-165 Spring Valley Dr., Nashville, 16000116

Inglewood Place Historic District,

Golf, Greenfield, Howard, Jakes, Katherine, Kennedy, Kirkland, McChesney, Riverside, Shelton & Stratford Aves., Nashville, 16000117

Kenner Manor Historic District, 672-910 Clearview Dr., 700-722 Crescent Rd., 100-201 Kenner Ave., 200-313 Woodmont Cir., Nashville, 16000118

Hamblen County

Morristown Main Street Historic District, 101-119 E. Main, 200-243 W. Main, 113-133, 118-134 N. Henry, 111-121 N. Cumberland, 110-128 S. Cumberland Sts., Morristown, 16000120

Knox County

Hilltop, (Knoxville and Knox County MPS) 5617 Lyons View Pike, Knoxville, 16000119

TEXAS

Nueces County

600 Building, 600 Leopard St., Corpus Christi, 16000121

Tarrant County

Rogers, Will, Memorial Center, 3401 W. Lancaster Ave., Fort Worth, 16000122

UTAH

Davis County

Smoot Dairy Farmhouse, 1697 N. Main St., Centerville, 16000123

Salt Lake County

Sugden, Roberta, House, 1810 E. Orchard Dr., Salt Lake City, 16000124

Warehouse District (Boundary Increase), (Salt Lake City Business District MRA) Roughly bounded by I-15, US 50 S., W. Temple St., 300 West & 1000 South, Salt Lake City, 16000125

A request to move has been received for the following resource:

CONNECTICUT

Fairfield County

Hoyt-Barnum House, 713 Bedford St., Stamford, 69000199

A request for removal has been received for the following resources:

NEBRASKA

Adams County

Antioch School, Near Crooked Creek, Pauline, 88000914

Franklin County

Lincoln Hotel, 519 15th Ave., Franklin, 89000799

TENNESSEE

Obion County

Colored Hotel, 208 Nash St., Union City, 08000284

VERMONT

Addison County

Brooksville Advent Church, 1338 Dog Team Tavern Rd., New Haven, 02001380

Dog Team Tavern, 1338 Dog Team Tavern Rd., New Haven, 02001381

Chittenden County

Chittenden County Courthouse, 180 Church St., Burlington, 73000192

Authority: 60.13 of 36 CFR part 60.

Dated: February 10, 2016.
Elaine Jackson-Retondo,
Acting Chief, National Register of Historic Places/National Historic Landmarks Program.

[FR Doc. 2016-05735 Filed 3-14-16; 8:45 am]

BILLING CODE 4312-51-P